DEPARTMENT OF HEALTH AND HUMAN SERVICES

Health Care Financing Administration

[HCFA-4020-N]

Medicare Program; Renewal of the Advisory Panel for Medicare Education (APME)

AGENCY: Health Care Financing Administration (HCFA), HHS.

ACTION: Notice.

SUMMARY: This notice announces the renewal of the Advisory Panel on Medicare Education (the Panel or APME). The Panel advises the Secretary of the Department of Health and Human Services (the Secretary) and the Administrator of the Health Care Financing Administration (the Administrator) concerning optimal strategies for implementing a national Medicare education program; enhancing the Federal Government's effectiveness in informing the Medicare consumer; expanding outreach to vulnerable and under-served communities; and assembling an information base of “best practices” for helping consumers to evaluate health plan options and build a community infrastructure for information, counseling, and assistance. In accordance with the Federal Advisory Committee Act, 5 U.S.C. Appendix 2, this notice announces the signing of the APME charter renewal by the Secretary on January 18, 2001. The charter will terminate on January 21, 2003, unless renewed by the Secretary.

FOR FURTHER INFORMATION CONTACT: Nancy Caliman, Partnership Development Group, Center for Beneficiary Services, HCFA, 7500 Security Boulevard, Mail Stop S2-23-05, Baltimore, MD 21244, (410) 786-5052, or E-mail ncaliman@hcfa.gov.

SUPPLEMENTARY INFORMATION:

I. Background

On February 17, 1999, we published a notice in the Federal Register (64 FR 7899) announcing the establishment of the Citizens Advisory Panel on Medicare Education. The Secretary signed the charter for the Citizens Advisory Panel on Medicare Education on January 21, 1999. The name of the committee was changed to the Advisory Panel on Medicare Education via an amended charter signed by the Secretary on July 24, 2000.

The Panel, chartered under section 1114(f) of the Social Security Act (42 U.S.C. section 1314(f)), is governed by the provisions of the Federal Advisory Committee Act (FACA) (5 U.S.C. Appendix 2), that set forth standards for the formation and use of advisory committees.

The Panel consists of up to 20 members with expertise in senior citizen advocacy; outreach to minority communities; health communications; disease-related health advocacy; disability policy and access; health research; health insurers and plans; providers and clinicians; and matters of labor and retirement. There are currently 16 members on the Panel.

The Panel advises the Secretary and the Administrator concerning optimal strategies for—

• Developing and implementing a national Medicare education program that describes the options for selecting a health plan under Medicare;

• Enhancing the Federal Government's effectiveness in informing the Medicare consumer, including providing information about the appropriate use of public-private partnerships;

• Expanding outreach to vulnerable and under-served communities, including racial and ethnic minorities, in the context of a national Medicare education program; and,

• Assembling an information base of “best practices” for helping consumers to evaluate health plan options and build a community infrastructure for information, counseling and assistance.

II. Provisions of This Notice

This notice announces the signing of the APME charter renewal by the Secretary on January 18, 2001. The charter will terminate on January 21, 2003, unless renewed by appropriate action before its expiration date.

III. Copies of the Charter

You may obtain a copy of the charter for the APME by submitting a request to Nancy Caliman, Partnership Development Group, Center for Beneficiary Services, Health Care Financing Administration, 7500 Security Boulevard, Mail Stop S2-23-05, Baltimore, MD 21244, (410) 786-5052, or E-mail the request to ncaliman@hcfa.gov. A copy of the charter is also available on the Internet at http://www.hcfa.gov/events/apme/homepage.htm.

Authority: Secs. 1102 and 1871 of the Social Security Act (42 U.S.C. 1302 and 1395hh)

(Catalog of Federal Domestic Assistance Program No. 93.773, Medicare—Hospital Insurance; and Program No. 93.774, Medicare—Supplementary Medical Insurance Program)
Dated: March 14, 2001.
Michael McMullan,
Acting Deputy Administrator, Health Care Financing Administration.

[FR Doc. 01-7631 Filed 3-27-01; 8:45 am]

BILLING CODE 4120-01-P